SECURITIES AND EXCHANGE COMMISSION

[OMB Control No. 3235-0378]

Agency Information Collection Activities; Submission for OMB Review; Comment Request; Extension: Form F-8—Registration Statement

Upon Written Request, Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) has submitted to the Office of Management and Budget (“OMB”) this request for extension of the previously approved collection of information discussed below.

Form F-8 (17 CFR 239.38) may be used by certain Canadian issuers for registration under the Securities Act of 1933 (15 U.S.C. 77a et seq.) (“Securities Act”) in connection with exchange offers and certain business combinations. Form F-8 provides investors with information important to investment decision making while also promoting capital formation by reducing the cost and increasing the efficiency of Securities Act registration in connection with exchange offers and business combination transactions, which may encourage Canadian issuers to extend exchange offers and business combinations to U.S. securityholders. The information provided is mandatory and all information is available to the public. We estimate that Form F-8 takes approximately one hour per response to prepare and is filed by approximately one respondent annually. We estimate that 25% of the collection of information burden is carried by the issuer. For total paperwork burden hours, where our calculations produced a number less than one, we have used an estimate of one for total burden hours. We estimate a total annual reporting burden of one hour (.25 hours × 1 response annually = .25 hours, rounded to 1 hour). We estimate that 75% of the one hour per response (.75 hours) is carried by outside professionals retained by the issuer at an estimated cost of $600 per hour, for a total annual cost burden of $450 (.75 hours per response × $600 per hour × 1 response annually).

An agency may not conduct or sponsor, and a person is not required to respond to, a collection of information unless it displays a currently valid OMB Control Number.

The public may view and comment on this information collection request at: https://www.reginfo.gov/public/do/PRAViewICR?ref_nbr=202504-3235-019 or send an email comment to MBX.OMB.OIRA.SEC_desk_officer@omb.eop.gov within 30 days of the day after publication of this notice by October 14, 2025.

Dated: September 10, 2025.
Sherry Haywood,
Assistant Secretary.

[FR Doc. 2025-17676 Filed 9-11-25; 8:45 am]

BILLING CODE 8011-01-P